ENVIRONMENTAL PROTECTION AGENCY

[FRL-7009-1]

Internet Availability of Data on a Subset of Federal Facilities in the Sector Facility Indexing Project

AGENCY: Environmental Protection Agency.

ACTION: Notice of availability.

SUMMARY: The Environmental Protection Agency (EPA) is announcing the Internet release of data on a subset of federal facilities in the Sector Facility Indexing Project (SFIP). Based upon the positive results of an Agency study that evaluated the progress of this project, the EPA announced on May 17, 2000 that the SFIP would be expanding to include a subset of federal facilities. (See 65 FR 34704, May 31, 2000). The new federal facility subset includes all federal facilities which are considered to be major facilities under at least two of the three following statutes: the Clean Air Act, the Clean Water Act, and the Resource Conservation and Recovery Act. This new subset joins the approximately 625 facilities already profiled in SFIP. The existing facilities address five industry sectors: Automobile assembly; petroleum refining; pulp manufacturing; iron and steel manufacturing; and primary smelting and refining of aluminum, copper, lead, and zinc (nonferrous metals).

DATES: The SFIP was expanded to include data on a subset of federal facilities on June 25, 2001, and the data is currently available to the public.

ADDRESSES: Data may be accessed electronically via the Internet at the following address: http://www.epa.gov/oeca/sfi.

FOR FURTHER INFORMATION CONTACT: Robert Lischinsky, U.S. Environmental Protection Agency, Office of Compliance (2223-A), 1200 Pennsylvania Avenue, NW., Washington, DC 20460; telephone: (202)564-2628, fax: (202)564-0050; e-mail: lischinsky.robert@epa.gov

SUPPLEMENTARY INFORMATION: As a community right-to-know project, SFIP is a computerized database of environmental information that provides the public with facility-level compliance data in one location on the Internet. This database makes it possible for anyone to easily find and compare information on the environmental record of many industrial facilities. Government agencies can use the information as a planning tool, and facilities can benchmark their data against those of other facilities, or simply monitor their own regulatory performance. SFIP includes such information as a facility's compliance and enforcement history; information on pollutant releases and spills; and demographics of the surrounding community.

When EPA launched the SFIP website (www.epa.gov/oeca/sfi) in May 1998 (see 63 FR 27281, May 18, 1998), the Agency made a commitment to monitor and evaluate the progress of this project. User groups both inside and outside the Agency were consulted in our evaluation and the results were positive. SFIP has been extensively accessed by a variety of users. They have found the site easy to navigate and the information useful, resulting in numerous analyses. Users have commented that SFIP has met the challenge of summarizing complex compliance and pollutant release information from multiple statutory programs. They also have stated that the project serves as an incentive to achieve and maintain compliance while helping to improve data quality in the underlying databases.

During the evaluation of SFIP, EPA received feedback that the project should provide for additional sectors to make the project more useful to a broader audience. Prior to expanding the project, the Agency consulted with various groups, including environmental organizations, industry trade associations, several States, and The Environmental Council of the States. The expansion to federal facilities has been viewed as a positive step as it will provide the public with additional information on the U.S. government's own environmental performance. With this expansion, we have continued to ensure that we maintain the public's confidence in the integrity of the data. Regions, States and the affected facilities were given the opportunity to review the data and resolve any data quality issues through a coordinated EPA/State effort prior to release.

Dated: June 29, 2001.
Ken Gigliello,
Acting Chief, Air, Hazardous Waste, & Toxics Branch, Compliance Assessment & Media Programs Div., Office of Compliance.

[FR Doc. 01-17203 Filed 7-9-01; 8:45 am]

BILLING CODE 6560-50-P